DEPARTMENT OF ENERGY

Federal Energy Regulatory Commission

[Project No. 2880-011]

Broad River Electric Cooperative and Cherokee Falls Associates; Aquenergy Systems, Inc.; Notice of Application for Transfer of License, and Soliciting Comments and Motions To Intervene

On June 18, 2013, Broad River Electric Cooperative and Cherokee Falls Associates (transferors) and Aquenergy Systems, Inc. (transferee) filed an application for transfer of license for the Cherokee Falls Project, FERC No. 2880, located on the Broad River in Cherokee County, South Carolina.

Applicants seek Commission approval to transfer the license for the Cherokee Falls Project from transferor to transferee.

Applicants' Contact: Transferor: Mr. Douglass E. Wilson, President & Chief Executive Officer, Broad River Electric Cooperative, Inc., P.O. Box 2269, 811 Hamrick Street, Gaffney, SC 29342, telephone (864) 489-5737 and Mr. Charles R. Zappala, Shareholder, Cherokee Falls Associates, 625 Liberty Ave., Suite 3100, Pittsburgh, PA 15222. Transferee: Mr. Steve Champagne, Executive Vice President and General Counsel, Aquenergy Systems, Inc., c/o Enel Green Power North America, Inc., One Tech Drive, Suite 220, Andover, MA 01810.

FERC Contact: Patricia W. Gillis (202) 502-8735.

Deadline for filing comments and motions to intervene: 30 days from the issuance date of this notice by the Commission. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-2880) in the docket number field to access the document. For assistance, call toll-free 1-866-208-3372.

Dated: June 19, 2013.
Kimberly D. Bose,
Secretary.

[FR Doc. 2013-15191 Filed 6-25-13; 8:45 am]

BILLING CODE 6717-01-P